DEPARTMENT OF LABOR

Employment and Training Administration

[TA-W-64,071]

Chase Home Finance, LLC, Division of JP Morgan & Co., Lexington, KY; Notice of Termination of Investigation

In accordance with Section 221 of the Trade Act of 1974, as amended, an investigation was initiated on September 17, 2008 in response to a worker petition filed on behalf of workers of Chase Home Finance, LLC, a division of JP Morgan Chase & Co., Lexington, Kentucky.

The petitioner has requested that the petition be withdrawn. Consequently, the investigation has been terminated.

Signed in Washington, DC, this 25th day of September 2008.
Richard Church,
Certifying Officer, Division of Trade Adjustment Assistance.

[FR Doc. E8-23293 Filed 10-2-08; 8:45 am]

BILLING CODE 4510-FN-P